DEPARTMENT OF COMMERCE

International Trade Administration

[A-533-840]

Certain Frozen Warmwater Shrimp From India: Notice of Final Results of Antidumping Duty Changed Circumstances Review

AGENCY: Enforcement and Compliance, International Trade Administration, Department of Commerce.

SUMMARY: On August 30, 2023, the U.S. Department of Commerce (Commerce) published the notice of initiation and preliminary results of a changed circumstances review (CCR) of the antidumping duty (AD) order on certain frozen warmwater shrimp from India. For these final results, Commerce continues to find that Highland Agro Food Private Limited (HA Food) is the successor-in-interest to Highland Agro.

DATES: Applicable October 18, 2023.

FOR FURTHER INFORMATION CONTACT: Christopher Viers, AD/CVD Operations, Office IX, Enforcement and Compliance, International Trade Administration, U.S. Department of Commerce, 1401 Constitution Avenue NW, Washington, DC 20230; telephone: (202) 482-0519.

SUPPLEMENTARY INFORMATION:

Background

On July 6, 2023, HA Food requested that Commerce conduct an expedited CCR, pursuant to section 751(b)(1) of the Tariff Act of 1930, as amended (the Act), 19 CFR 351.216, and 19 CFR 351.221(c)(3), to confirm that HA Food is the successor-in-interest to Highland Agro for purposes of determining AD cash deposits and liabilities.¹ In its submission, HA Food stated that, in 2022, Highland Agro undertook a name change to HA Food and changed its corporate structure to become a limited liability company.²

¹ See HA Food's Letter, “Request for Expedited Changed Circumstances Review,” dated July 6, 2023.

² Id.

On August 30, 2023, pursuant to 19 CFR 351.221(c)(3)(ii), Commerce initiated this CCR and published the Preliminary Results, preliminarily determining that HA Food is the successor-in-interest to Highland Agro.³ In the Preliminary Results, we provided all interested parties with an opportunity to comment.⁴ However, we received no comments.

³ See Certain Frozen Warmwater Shrimp from India: Notice of Initiation and Preliminary Results of Antidumping Duty Changed Circumstances Review, 88 FR 59868 (August 30, 2023) (Preliminary Results), and accompanying Preliminary Decision Memorandum (PDM).

⁴ Id.

Scope of the Order ⁵

⁵ For a complete description of the scope of the order, see the Preliminary Results PDM at 2.

The merchandise subject to the order is certain frozen warmwater shrimp. The product is currently classified under the following Harmonized Tariff Schedule of the United States (HTSUS) subheadings: 0306.17.00.03, 0306.17.00.04, 0306.17.00.05, 0306.17.00.06, 0306.17.00.07, 0306.17.00.08, 0306.17.00.09, 0306.17.00.10, 0306.17.00.11, 0306.17.00.12, 0306.17.00.13, 0306.17.00.14, 0306.17.00.15, 0306.17.00.16, 0306.17.00.17, 0306.17.00.18, 0306.17.00.19, 0306.17.00.20, 0306.17.00.21, 0306.17.00.22, 0306.17.00.23, 0306.17.00.24, 0306.17.00.25, 0306.17.00.26, 0306.17.00.27, 0306.17.00.28, 0306.17.00.29, 0306.17.00.40, 0306.17.00.41, 0306.17.00.42, 1605.21.10.30, and 1605.29.10.10. Although the HTSUS numbers are provided for convenience and customs purposes, the written product description remains dispositive.

Final Results of CCR

For the reasons stated in the Preliminary Results, Commerce continues to find that HA Food is the successor-in-interest to Highland Agro. As a result of this determination, and consistent with our established practice, we find that HA Food should receive the AD cash deposit rate previously assigned to Highland Agro. Because there are no changes from the Preliminary Results, there is no decision memorandum accompanying this notice and the Preliminary Results are hereby adopted as the final results of this CCR.

Consequently, Commerce will instruct U.S. Customs and Border Protection to suspend liquidation of all shipments of subject merchandise produced and/or exported by HA Food and entered, or withdrawn from warehouse, for consumption on or after the publication date of this notice in the Federal Register at 3.88 percent, which is the current AD cash deposit rate for Highland Agro.⁶ This cash deposit requirement shall remain in effect until further notice.

⁶ See Certain Frozen Warmwater Shrimp from India: Final Results of Antidumping Duty Administrative Review; 2021-2022, 88 FR 60431 (September 1, 2023).

Administrative Protective Order

This notice serves as the only reminder to parties subject to an administrative protective order (APO) of their responsibility concerning the disposition of proprietary information disclosed under APO in accordance with 19 CFR 351.305(a)(3). Timely written notification of return or destruction of APO materials or conversion to judicial protective order is hereby requested. Failure to comply with the regulations and terms of an APO is a sanctionable violation.

Notification to Interested Parties

We are issuing this determination and publishing these final results and notice in accordance with sections 751(b)(1) and 777(i)(1) and (2) of the Act, and 19 CFR 351.216(e), 351.221(b), and 351.221(c)(3).

Dated: October 11, 2023.
Abdelali Elouaradia,
Deputy Assistant Secretary for Enforcement and Compliance.

[FR Doc. 2023-22945 Filed 10-17-23; 8:45 am]

BILLING CODE 3510-DS-P